DEPARTMENT OF ENERGY

Federal Energy Regulatory Commission

[Docket No. RM01-5-000]

Electronic Tariff Filings; Notice of Revision to Validation Error Codes Duplicative Version Numbers

Take notice that on December 17, 2022, the Commission will be deploying a new version of eTariff that will reject filings containing tariff records that duplicate a previously used Version number. The eTariff Implementation Guide requires a unique version number for a tariff record,¹ and this validation rule will ensure that filer has not duplicated a previously used version number. The eTariff error code for duplicating version numbers will be 177 with the error notice “Record Version Number cannot be duplicated.”

¹ Implementation Guide for Electronic Filing of Parts 35, 154, 284, 300, and 341 Tariff Filings, at 9, https://www.ferc.gov/sites/default/files/2020-05/OSEC%20Implementation%20Guide.pdf.

This error code will be added to the Validation Error Codes posted on the Commission's eTariff website (https://www.ferc.gov/ferc-online/etariff), at https://www.ferc.gov/sites/default/files/2020-05/Validation%20Error%20Codes.csv. Filings containing duplicative version numbers will receive the following rejection error in the Notice of Rejection email.

—Error List

Failed Code 177: Record Version Number cannot be duplicated.

For more information, contact the eTariff Advisory Staff at etariffresponse@ferc.gov.

Dated: November 17, 2022.
Debbie-Anne A. Reese,
Deputy Secretary.

[FR Doc. 2022-25602 Filed 11-22-22; 8:45 am]

BILLING CODE 6717-01-P